ANTITRUST MODERNIZATION COMMISSION

Notice of Public Hearings

AGENCY: Antitrust Modernization Commission.

ACTION: Notice of public hearings.

SUMMARY: The Antitrust Modernization Commission will hold public hearings on November 8 and November 17, 2005. The topics of the hearings are Antitrust and the New Economy, and Merger Enforcement.

DATES: November 8, 2005, 9:30 to 11:30 a.m. and 12:45 to 2:45 p.m. November 17, 2005, 9:30 to 11:30 a.m. and 12:45 p.m. to 5 p.m. Interested members of the public may attend. Registration is not required.

ADDRESSES: Federal Trade Commission, Conference Center, 601 New Jersey Avenue, NW., Washington, DC.

FOR FURTHER INFORMATION CONTACT: Andrew J. Heimert, Executive Director & General Counsel, Antitrust Modernization Commission: telephone: (202) 233-0701; e-mail: info@amc.gov. Mr. Heimert is also the Designated Federal Officer (DFO) for the Antitrust Modernization Commission.

SUPPLEMENTARY INFORMATION: The purpose of these hearings is for the Antitrust Modernization Commission to take testimony and receive evidence regarding Antitrust and the New Economy, and Merger Enforcement. The hearing on Antitrust and the New Economy will consist of two panels, and will be held on November 8, 2005. The first panel will begin at 9:30 a.m. and conclude at 11:30 a.m. The second panel will begin at 12:45 p.m. and conclude at 2:45 p.m. The hearing on Merger Enforcement will consist of three panels, and will be held on November 17, 2005. The first panel will begin at 9:30 a.m. and conclude at 11:30 a.m. The second panel will begin at 12:45 p.m. and conclude at 2:45 p.m. The third panel will begin at 3 p.m. and conclude at 5 p.m. Materials relating to the hearings, including lists of witnesses and the prepared statements of the witnesses, will be made available on the Commission's Web site (www.amc.gov) in advance of the hearings.

Interested members of the public may submit written testimony on the subject of the hearing in the form of comments, pursuant to the Commission's request for comments. See 70 FR 28902 (May 19, 2005). Members of the public will not be provided with an opportunity to make oral remarks at the hearings.

The AMC is holding this hearing pursuant to its authorizing statute. Antitrust Modernization Commission Act of 2002, Pub. L. 107-273, § 11057(a), 116 Stat. 1758, 1858.

Dated: October 17, 2005.
By direction of the Antitrust Modernization Commission.
Andrew J. Heimert,
Executive Director & General Counsel, Antitrust Modernization Commission.

[FR Doc. 05-21058 Filed 10-20-05; 8:45am]

BILLING CODE 6820-YH-P